DEPARTMENT OF DEFENSE

Department of the Navy

Notice of Performance Review Board Membership

AGENCY: Department of the Navy, DOD.

ACTION: Notice.

SUMMARY: Pursuant to 5 U.S.C. 4314(c)(4), the Department of the Navy (DON) announces the appointment of members to the DON's numerous Senior Executive Service (SES) Performance Review Boards (PRBs). The purpose of the PRBs is to provide fair and impartial review of the annual SES performance appraisal prepared by the senior executive's assigned rating officials; to make recommendations to authorizing officials regarding acceptance or modification of the performance rating; and to make recommendations for performance bonuses and basic pay increases. Composition of the specific PRBs will be determined on an ad hoc basis from among individuals listed below:

ACKLEY, V. MR.

ADAMS, P. MS.

ALLES, R. BGEN

BACHMANN, M. RDML

BARBER III, A. MR.

BARNUM, H. MR.

BELAND, R. DR.

BETRO, T. MR.

BLAIR, A. MS.

BONWICH, S. MR.

BRANT, D. MR.

BRENNAN, A. MS.

BROTHERTON, A. MS.

BURNS, J. RADM

CALI, R. MR.

CIESLAK, R. MR.

COCKHRANE, E. MR.

COOK, C. MR.

COX, A. MR.

CRABTREE, T. MR.

CREEDON, C. MR.

CWALINA, B. MR.

DECKER, J. MS.

DECKER, M. MR.

DEITCHMAN, M. MR.

DEWITTE, C. MS.

DUNN, S. MR.

EASTER, S. MS.

EASTON, M. MR.

ERLAND, C. MS.

EVAN, G. MS.

FRANTZ, G. MR.

GALGANO, M. MR.

GARDNER, E. LTGEN

GIACCHI, C. A. MR.

GLAS, R. A. MR.

GODDARD, C. H. RDML

GODWIN, A. MS.

GOODHART, J. MR.

GRECO, R. THE HONORABLE

GREENING, M. MS.

GUARD, H. DR.

HALVORSEN, T. MR.

HAMILTON, C. RADM

HANSON, H. MR.

HAYNES, R. MR.

HERR, F. DR.

HILDEBRANDT, A. MR.

HOGUE, R. MR.

HOLCOMB, K. MS.

HONECKER, M. MR.

HOWARD, J. MR.

JAGGARD, M. MR.

JOHNSTON, K. DR.

JUNKER, B. DR.

KASKIN, J. MR.

KLIEN, J. MR.

KLEINTOP, M. MS.

KOWBA, W. RADM

KRAMLICH, R. LTGEN

KRASIK, S. MS.

LA RAIA, J. MR.

LAUX, T. MR.

LEACH, R. MR.

LEIKACH, K. MR.

LOCKLEAR, S. RADM

LOFTUS, J. MS.

LONG, L. A. MS.

LOWELL, P. MR.

LUCCHINO, C. MS.

MASCIARELLI, J. MR.

MCCORMACK, D. MR.

MCCOY, K. RDML

MCLAUGHLIN, P. MR.

MCNAIR, J. MR.

MEADOWS, L. MS.

MOHLER, M. MR.

MOLZAHN, W. MR.

MONTGOMERY, J. DR.

MOORE, S. MR.

MORA, A. THE HONORABLE

MUTH, C. MS.

NAVAS, W. THE HONORABLE

NEWTON, L. MS.

O'NEIL, S. MR.

ORNER, J. G. MR.

OSMAN, H. LTGEN

PENN, B. THE HONORABLE

PLUNKETT, B MR.

RAPS, S. MS.

REEVES, C. MR.

RHODES, M. MR.

ROARK, JR. J. MR.

RODRIGUEZ, W. RADM

RONDEAU, A. VADM

ROWE, M. MR.

RYZEWIC, W. MR.

SAUL, E. MR.

SCHUBERT, D. CAPT

SHEPARD, M. MS.

SLOCUM, W. MR.

SMITH, R. F. MR.

SOLHAN, G. MR.

SOMOROFF, A. DR.

SORENSEN, D. CAPT

TAMBURRINO, JR, P. MR.

TESCH, T. MR.

THACKRAH, J. MR.

THOMSEN, J. MR.

TIMME, W. RDML

TOLHURST, R. A. MR.

WARD, J. MR.

WENNERGREN, D. MR.

WHITEHEAD, S. MR.

WHITTEMORE, A. MS.

WIERINGA, J. RADM

WILLIAMS, G. MR.

WINOKUR, R. MR.

YOUNG, C. RADM

YOUNG, D. MR.

YOUNG, J. THE HONORABLE

FOR FURTHER INFORMATION CONTACT: Ms. Sheeler Kowalewski, Office of Civilian Human Resources, telephone 202-685-6693.

Dated: October 28, 2005.
I. C. Le Moyne Jr.,
Lieutenant Commander, Judge Advocate General's Corps, U.S. Navy, Alternate Federal Register Liaison Officer.

[FR Doc. 05-22515 Filed 11-10-05; 8:45 am]

BILLING CODE 3810-FF-P